NUCLEAR REGULATORY COMMISSION

[NRC-2011-0011]

Criteria and Design Features for Inspection of Water-Control Structures Associated With Nuclear Power Plants; Correction

AGENCY: Nuclear Regulatory Commission.

ACTION: Regulatory Guide; issuance; correction.

SUMMARY: The U.S. Nuclear Regulatory Commission (NRC) is correcting a notice that was published in the Federal Register (FR) on February 18, 2016, regarding the issuance of Revision 2 of Regulatory Guide (RG) 1.127, “Criteria and Design Features for Inspection of Water-Control Structures Associated with Nuclear Power Plants.” This action is necessary to correct an ADAMS accession number.

DATES: The correction is effective March 16, 2016.

ADDRESSES: Please refer to Docket ID NRC-2011-0011 when contacting the NRC about the availability of information regarding this document. You may obtain publicly-available information related to this document using any of the following methods:

• Federal Rulemaking Web site: Go to http://www.regulations.gov and search for Docket ID NRC-2011-0011. Address questions about NRC dockets to Carol Gallagher; telephone: 301-415-3463; email: Carol.Gallagher@nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Robert Pettis, Office of Nuclear Reactor Regulation, telephone: 301-415-3214; email: Robert.Pettis@nrc.gov; Kenneth Karwoski, Office of Nuclear Reactor Regulation, telephone: 301-415-2752; email: Kenneth.Karwoski@nrc.gov; or Mark Orr, Office of Nuclear Regulatory Research, telephone: 301-415-6003; email: Mark.Orr@nrc.gov. All are on the staff of the U.S. Nuclear Regulatory Commission, Washington, DC 20555-0001.

SUPPLEMENTARY INFORMATION: In the FR on February 18, 2016, in FR Doc. 2016-03346, on page 8254, in the third column, the last line of the first paragraph, correct “ML093060317” to read “ML102380594.”

Dated at Rockville, Maryland this 10th day of March, 2016.
For the Nuclear Regulatory Commission.
Thomas H. Boyce,
Chief, Regulatory Guidance and Generic Issues Branch, Division of Engineering, Office of Nuclear Regulatory Research.

[FR Doc. 2016-05909 Filed 3-15-16; 8:45 am]

BILLING CODE 7590-01-P